DEPARTMENT OF THE INTERIOR

Office of the Secretary

[FWS-HQ-FAC-2020-N053; FF09F42300 FVWF97920900000 XXX]

Sport Fishing and Boating Partnership Council; Reestablishment

AGENCY: Office of the Secretary, Interior.

ACTION: Notice of reestablishment.

SUMMARY: This notice is published in accordance with the Federal Advisory Committee Act. Following consultation with the General Services Administration, the Secretary of the Interior is reestablishing the Sport Fishing and Boating Partnership Council for a 2-year period.

FOR FURTHER INFORMATION CONTACT: David Miko, Designated Federal Officer, U.S. Fish and Wildlife Service, via telephone at 703-358-2279, via email at david_miko@fws.gov, or via the Federal Relay Service at 800-877-8339 for TTY service.

SUPPLEMENTARY INFORMATION: The Secretary of the Interior (Secretary) intends to reestablish the Sport Fishing and Boating Partnership Council (Council) for a 2-year period. The Council advises the Secretary, through the Director of the U.S. Fish and Wildlife Service, on aquatic conservation endeavors that benefit recreational fishery resources and recreational boating and that encourage partnerships among industry, the public, and government. The Council functions solely as an advisory body. The Council conducts its operations in accordance with the provisions of the Federal Advisory Committee Act (5 U.S.C. Appendix 2).

Certification: I hereby certify that the Sport Fishing and Boating Partnership Council is necessary and is in the public interest in connection with the performance of duties imposed on the Department of the Interior under the Fish and Wildlife Act of 1956 (16 U.S.C. 742a-742j), the Federal Aid in Sport Fish Restoration Act (16 U.S.C. 777-777k), the Fish and Wildlife Coordination Act (16 U.S.C. 661-667e), and Executive Order 12962 (60 FR 30769, June 7, 1995), as amended by Executive Order 13474 (73 FR 57229, September 26, 2008).

Authority: 5 U.S.C. Appendix 2.

Dated: November 16, 2020.
David L. Bernhardt,
Secretary of the Interior.

[FR Doc. 2020-25840 Filed 11-20-20; 8:45 am]

BILLING CODE 4333-15-P